DEPARTMENT OF AGRICULTURE

Forest Service

Chrome Fire Salvage Recovery Project, Malheur National Forest, Grant County, OR

AGENCY: Forest Service, USDA.

ACTION: Cancellation Notice.

SUMMARY: On December 8, 2006, a Notice of Intent (NOI) to prepare an environmental impact statement (EIS) for the Chrome Fire Salvage Recovery Project on the Blue Mountain Ranger District of the Malheur National Forest, was published in the Federal Register (71 FR 71121). Forest Service has decided to cancel the preparation of this EIS. The NOI is hereby rescinded.

FOR FURTHER INFORMATION CONTACT: Jerry Hensley, Project Manager, Malheur National Forest, 431 Patterson Bridge Road, P.O. Box 909, John Day, Oregon, telephone 541-575-3167, e-mail jhensley@fs.fed.us.

Dated: December 8, 2006.
Gary L. Benes,
Forest Supervisor.

[FR Doc. 06-9688 Filed 12-13-06; 8:45 am]

BILLING CODE 3410-11-M